DEPARTMENT OF JUSTICE

[OMB Number 1105-0094]

Agency Information Collection Activities; Proposed eCollection eComments Requested; Extension With Change, of a Previously Approved Collection; Applications for Special Deputation

AGENCY: U.S. Marshals Service, Department of Justice.

ACTION: 30-Day notice.

SUMMARY: The U.S. Marshals Service (USMS), Department of Justice (DOJ), will submit the following information collection request to the Office of Management and Budget (OMB) for review and approval in accordance with the Paperwork Reduction Act of 1995.

DATES: Comments are encouraged and will be accepted for an additional 30 days until April 4, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

Type of Information Collection: Extension with change of a currently approved collection.

The Title of the Form/Collection: Applications for Special Deputation.

The agency form number, if any, and the applicable component of the Department sponsoring the collection:

Form number: Form USM-3A and USM-3C.

Component: U.S. Marshals Service, U.S. Department of Justice.

Affected public who will be asked or required to respond, as well as a brief abstract:

Primary: Federal government and State/local government.

Other: [None].

Abstract: The collection of information for these forms is authorized by 28 U.S.C. 562. The USMS is authorized to deputize selected persons to perform the functions of a Special Deputy U.S. Marshal whenever the law enforcement needs of the USMS so require and as designated by the Associate Attorney General pursuant to 28 CFR 0.19(a)(3). USMS Special Deputation files serve as a centralized record of the special deputations granted by the USMS to assist in tracking, controlling and monitoring the Special Deputation Program.

An estimate of the total number of respondents and the amount of time estimated for an average respondent to respond: It is estimated that 6,000 respondents will complete a 15 minute form (Form USM-3A) and 5,500 respondents will complete a 10 minute form (Form USM-3C).

An estimate of the total public burden (in hours) associated with the collection: The estimated annual public burden associated with this collection is 1 hour, which is equal to (14 (total # of annual responses) * 4 minutes = 56 minutes or 1 hour).

An Explanation of the Change in Estimates: N/A.

If additional information is required contact: Melody Braswell, Department Clearance Officer, United States Department of Justice, Justice Management Division, Policy and Planning Staff, Two Constitution Square, 145 N Street NE, 3E.405A, Washington, DC 20530.

Dated: February 28, 2022.
Melody Braswell,
Department Clearance Officer for PRA, U.S. Department of Justice.

[FR Doc. 2022-04511 Filed 3-2-22; 8:45 am]

BILLING CODE 4410-04-P